DEPARTMENT OF THE INTERIOR

Bureau of Indian Affairs

Information Collection Activities, Submission to the Office of Management and Budget

AGENCY: Bureau of Indian Affairs, Interior.

ACTION: Notice of renewal of a currently approved information collection.

SUMMARY: In compliance with the Paperwork Reduction Act of 1995, this notice announces that the Bureau of Indian Affairs has submitted to the Office of Management and Budget a request for approval and renewal of information collections, OMB Control No. 1076-0017, Financial Assistance and Social Service Program application form 5-6601.

DATES: Written comments must be submitted on or before September 3, 2008.

ADDRESSES: Interested parties are invited to submit written comments regarding this proposal to the Desk Officer of the Department of the Interior by facsimile to (202) 395-6566. You may also send comments by e-mail to: OIRA_DOCKET@omb.eop.gov.

Copies of comments should refer to the proposal by name and/or OMB Control Number and should be sent to Kevin Sanders, Acting Chief, Office of Indian Services, Bureau of Indian Affairs, Department of the Interior, 1849 C Street, NW., MS-4513-MIB, Washington, DC 20240. Telephone (202) 513-7621.

FOR FURTHER INFORMATION CONTACT: Copies of the collection of information form or requests for additional information should be directed to Kevin Sanders, Office of Indian Services, Bureau of Indian Affairs, Department of the Interior, 1849 C Street, NW., MS-4513, Washington, DC 20240. Telephone (202) 513-7621.

SUPPLEMENTARY INFORMATION:

I. Abstract

The Bureau of Indian Affairs needs the information collected. Funding of these programs is authorized by 25 U.S.C. 13 to make determinations of eligibility for the BIA's social service financial assistance programs: General Assistance, Child Welfare Assistance, Miscellaneous Assistance, and services only (no cash assistance).

A 60-day notice for public comments was published in the Federal Register on February 4, 2008 (73 FR 6524). No comments were received regarding this form.

II. Request for Comments

The Department of the Interior invites comments being sent to OMB on:

(a) Whether the collection of information is necessary for the proper performance of the functions of the BIA, including whether the information will have practical utility;

(b) The accuracy of the BIA's estimate of the burden (including hours and cost) of the proposed collection of information, including the validity of the methodology and assumptions used;

(c) Ways to enhance the quality, utility, and clarity of the information to be collected; and

(d) Ways to minimize the burden of the collection of information on those who are to respond, including through the use of appropriate automated, electronic, mechanical, or other collection techniques or other forms of information technology.

Please note that an agency may not sponsor or request, and an individual need not respond to, a collection of information unless it has a valid OMB Control Number. Please note that an agency may not sponsor or request, and an individual need not respond to, a collection of information unless it has a valid OMB Control Number. Please note that all comments received will be available for public review. Before including your address, phone number, e-mail address or other personally identifiable information, be advised that your entire comment—including your personally identifiable information—may be made public at any time. While you may request that we withhold your personally identifiable information, we cannot guarantee that we will be able to do so. We do not consider anonymous comments. All comments from representatives of businesses or organizations will be made public in their entirety.

OMB is required to respond to this request within 60 days after publication of this notice in the Federal Register, but may respond after 30 days; therefore, your comments should be submitted to OMB within 30 days of publication to assure maximum consideration.

Burden means the total time or financial resources expended by persons to generate, maintain, retain, or disclose or provide information to or for a Federal agency. This includes the time needed to review instructions; to develop, acquire, install and utilize technology and systems for the purpose of collection, validating, and verifying information, processing and maintaining information, and disclosing and providing information, to search data sources to complete and review the collection of information; and to transmit or otherwise disclose the information.

III. Data

Title of the collection of information: Financial Assistance and Social Service Programs 25 CFR 20, Form BIA 5-6601.

OMB Number: 1076-0017.

Expiration Date: September 30, 2008.

Type of Review: Extension of a currently approved collection. The information is submitted to obtain or retain benefits and for case management/case planning purposes.

Affected Entities: Individual members of Indian tribes who are living on a reservation or within a tribal service area.

Frequency of responses: One application per year.

Estimated Number of Annual Responses: 200,000.

Estimated Total Annual Burden Hours: 200,000 × 30 min. = 100,000 hours.

Dated: July 28, 2008.
Sanjeev “Sonny” Bhagowalia,
Chief Information Officer—Indian Affairs.

[FR Doc. E8-17832 Filed 8-1-08; 8:45 am]

BILLING CODE 4310-4J-P